COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add a service to the Procurement List that will be provided by nonprofit agencies employing persons who are blind or have other severe disabilities, and deletes products previously furnished by such agencies.

DATES: Comments Must Be Received On Or Before: 12/6/2015.

ADDRESSES: Committee for Purchase From People Who Are Blind or Severely Disabled, 1401 S. Clark Street, Suite 715, Arlington, Virginia, 22202-4149.

FOR FURTHER INFORMATION CONTACT: For further information or to submit comments contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Addition

If the Committee approves the proposed addition, the entities of the Federal Government identified in this notice will be required to procure the service listed below from nonprofit agencies employing persons who are blind or have other severe disabilities.

The following service is proposed for addition to the Procurement List for production by the nonprofit agencies listed:

Service

Service Type: Help Desk Support Service.

Mandatory for: U.S. Army, Army Training Support Center, Combined Arms Center for Training, 3306 Wilson Avenue, Joint Base Langley-Eustis, VA.

Mandatory Source(s) of Supply: ServiceSource, Inc., Alexandria, VA.

Orion Career Works, Auburn, WA.

Contracting Activity: W6QM MICC-FDO, Ft Eustis, VA.

Deletions

The following products are proposed for deletion from the Procurement List:

Products

NSN(s)—Product Name(s):

7510-01-429-6946—DAYMAX System, Scratch Pad Refill, Lined, 6-hole.

7510-01-429-7418—DAYMAX System, Replacement Binder, LE, Zipper Closure, 3-hole, Burgundy.

7510-01-429-7414—DAYMAX System, Replacement Binder, LE, Zipper Closure, 3-hole, Black.

7510-01-429-7413—DAYMAX System, Replacement Binder, GLE, 7-hole, Black.

7510-01-429-7034—DAYMAX System, Tabbed Sections, 3-hole.

7510-01-429-7035—DAYMAX System, Itinerary Refill, 7-hole.

7510-01-429-7038—DAYMAX System, `Things to Do' Refill, 3-hole.

7510-01-429-7040—DAYMAX System, Account Ledger Refill, 3-hole.

7510-01-429-7041—DAYMAX System, Assignment List Refill, DOD, 3-hole.

7510-01-429-7046—DAYMAX System, Account Ledger Refill, 7-hole.

7510-01-429-7050—DAYMAX System, Task Plan Refill, DOD, 3-hole.

7510-01-429-7051—DAYMAX System, Tabbed Alpha Directory, 3-hole.

7510-01-429-7052—DAYMAX System, DIA`Log' Refill, DOD, 3-hole.

7510-01-429-7053—DAYMAX System, Address Directory Refill, 3-hole.

7510-01-429-7059—DAYMAX System, Tabbed Alpha Directory, 7-hole.

7510-01-429-7063—DAYMAX System, Priority Tabs, DOD, 3-hole.

7510-01-429-7065—DAYMAX System, Agenda Refill, 3-hole.

7510-01-429-7066—DAYMAX System, Address Directory Refill, 7-hole.

7510-01-429-7068—DAYMAX System, Project Coordinator Refill, 3-hole.

7510-01-429-7069—DAYMAX System, Daily Coordinator Refill, DOD, 3-hole.

7510-01-429-7072—DAYMAX System, Project Coordinator Refill, 7-hole.

7510-01-429-7074—DAYMAX System, Agenda Refill, 7-hole.

7510-01-429-7076—DAYMAX System, Itinerary Refill, 3-hole.

7510-01-429-7081—DAYMAX System, Journal Refill, 3-hole.

7510-01-429-7412—DAYMAX System, Replacement Binder, IE, Velcro Closure, 3-hole, Burgundy.

7510-01-429-7415—DAYMAX System, Replacement Binder, IE, Velcro Closure, 3-hole, Black.

7510-01-429-7416—DAYMAX System, Replacement Binder, IE, Velcro Closure, 3-hole, Navy.

7510-01-429-7417—DAYMAX System, Replacement Binder, LE, Zipper Closure, 3-hole, Navy.

7510-01-429-7472—DAYMAX System, Replacement Binder, GLE, 7-hole, Burgundy.

7510-01-429-7474—DAYMAX System, Replacement Binder, GLE, 7-hole, Navy.

7510-01-429-7475—DAYMAX System, Replacement Binder, DOD Logo, 3-hole, Zipper Closure, Burgundy.

7510-01-429-7477—DAYMAX System, Replacement Binder, 7-hole, Zipper Closure, Woodland Camouflage.

7510-01-429-7835—DAYMAX System, Vinyl Zipper Pouch, 3-hole.

7510-01-429-7838—DAYMAX System, Tabbed Alpha Directory, 6-hole.

7510-01-429-7841—DAYMAX System, `Things to Do' Refill, 7-hole.

7510-01-429-9609—DAYMAX System, Journal Refill, 7-hole.

7510-01-429-7843—DAYMAX System, Sheet Lifter, 3-hole.

7510-01-429-9985—DAYMAX System, Business/Credit Card Holder, 3-hole.

7510-01-429-9986—DAYMAX System, Ruler/Pagemark, 3-hole.

7510-01-463-0794—DAYMAX System, Sheet Lifter, 6-hole.

7510-01-463-0802—Logo, Customized, Silkscreen.

7510-01-485-6563—DAYMAX System, Sheet Lifter, 7-hole.

7510-01-485-6564—DAYMAX System, Vinyl Zipper Pouch, 7-hole.

7510-01-485-6565—DAYMAX System, Ruler/Pagemark, 7-hole.

7510-01-485-8334—DAYMAX System, Business/Credit Card Holder, 7-hole.

7510-01-463-0796—DAYMAX System, `Things-To-Do' Refill, 6-hole.

7530-01-429-6938—DAYMAX System, Scratch Pad Refill, Lined, 3-hole.

7530-01-429-6940—DAYMAX System, Scratch Pad Refill, Lined, 7-hole.

7530-01-429-6948—DAYMAX System, Scratch Pad Refill, Graph, 3-hole.

7530-01-429-9505—DAYMAX System, Scratch Pad Refill, Graph, 7-hole.

7510-01-429-7043—DAYMAX System, Tabbed Sections, 7-hole.

7510-01-545-3775—DAYMAX System, 2014, Calendar Pad, Type II.

7510-01-545-3792—DAYMAX System, 2014, Calendar Pad, Type I.

7510-01-588-0116—DAYMAX System, 2014, Tabbed Monthly, JR, 6-hole.

7510-01-588-0120—DAYMAX System, 2015, Tabbed Monthly, JR, 6-hole.

7510-01-588-0132—DAYMAX System, 2014, Week at a View, GLE, 7-hole.

7510-01-588-0137—DAYMAX System, 2015, Week at a View, GLE, 7-hole.

7530-01-545-3737—DAYMAX System, 2014, Appointment Refill.

7530-01-545-3743—DAYMAX System, 2015, Appointment Refill.

7530-01-587- 9717—DAYMAX System, 2014, JR Deluxe Planner, 6-hole, Digital Camouflage.

7530-01-587- 9717L—DAYMAX System, 2014, JR Deluxe Planner, 6-hole, Digital Camouflage w/logo.

7510-01-588-0144—DAYMAX System, 2014, Month at a View, IE/LE, 3-hole.

7510-01-588-0149—DAYMAX System, 2014, Tabbed Monthly, IE/LE, 3-hole.

7510-01-588-0150—DAYMAX System, 2015, Month at a View, IE/LE, 3-hole.

7510-01-588-0153—DAYMAX System, 2015, Tabbed Monthly, IE/LE, 3-hole.

7510-01-588-0161—DAYMAX System, 2014, Day at a View, GLE, 7-hole.

7510-01-588-0163—DAYMAX System, 2015, Day at a View, GLE, 7-hole.

7510-01-588-0165—DAYMAX System, 2015, Month at a View, GLE, 7-hole.

7510-01-588-0167—DAYMAX System, 2015, Day at a View, IE/LE, 3-hole.

7510-01-588-0192—DAYMAX System, 2014, Week at a View, IE/LE, 3-hole.

7510-01-588-0182—DAYMAX System, 2014, Tabbed Monthly, GLE, 7-hole.

7510-01-588-0184—DAYMAX System, 2015, Tabbed Monthly, GLE, 7-hole.

7510-01-588-0190—DAYMAX System, 2014, Month at a View, GLE, 7-hole.

7510-01-588-0194—DAYMAX System, 2015, Week at a View, IE/LE, 3-hole.

7510-01-588-0200—DAYMAX System, 2014, Day at a View, IE/LE, 3-hole.

7530-01-587-9593—DAYMAX System, 2014, LE Planner, 3-hole, Burgundy.

7530-01-587-9593L—DAYMAX System, 2014, LE Planner, 3-hole, Burgundy w/logo.

7530-01-587-9594—DAYMAX System, 2014, JR Planner, 6-hole, Burgundy.

7530-01-587-9594L—DAYMAX System, 2014, JR Planner, 6-hole, Burgundy w/logo.

7530-01-587-9597—DAYMAX System, 2015, JR Planner, 6-hole, Burgundy.

7530-01-587-9597L—DAYMAX System, 2015, JR Planner, 6-hole, Burgundy w/logo.

7530-01-587-9599—DAYMAX System, 2015, LE Planner, 3-hole, Burgundy.

7530-01-587-9599L—DAYMAX System, 2015, LE Planner, 3-hole, Burgundy w/logo.

7530-01-587-9613—DAYMAX System, 2014, IE Planner, 3-hole, Burgundy.

7530-01-587-9613L—DAYMAX System, 2014, IE Planner, 3-hole, Burgundy w/logo.

7530-01-587-9615—DAYMAX System, 2015, IE Planner, 3-hole, Navy.

7530-01-587-9615L—DAYMAX System, 2015, IE Planner, 3-hole, Navy w/logo.

7530-01-587-9618—DAYMAX System, 2015, IE Planner, 3-hole, Burgundy.

7530-01-587-9618L—DAYMAX System, 2015, IE Planner, 3-hole, Burgundy w/logo.

7530-01-587-9708—DAYMAX System, 2014, LE Planner, 3-hole, Black.

7530-01-587-9708L—DAYMAX System, 2014, LE Planner, 3-hole, Black w/logo.

7530-01-587-9621—DAYMAX System, 2014, IE Planner, 3-hole, Black.

7530-01-587-9621L—DAYMAX System, 2014, IE Planner, 3-hole, Black w/logo.

7530-01-587-9622—DAYMAX System, 2015, IE Planner, 3-hole, Black.

7530-01-587-9622L—DAYMAX System, 2015, IE Planner, 3-hole, Black w/logo.

7530-01-587-9634—DAYMAX System, 2014, IE Planner, 3-hole, Navy.

7530-01-587-9634L—DAYMAX System, 2014, IE Planner, 3-hole, Navy w/logo.

7530-01-587-9643—DAYMAX System, 2014, GLE Planner, 7-hole, Burgundy.

7530-01-587-9643L—DAYMAX System, 2014, GLE Planner, 7-hole, Burgundy.

7530-01-587-9647—DAYMAX System, 2015, GLE Planner, 7-hole, Burgundy.

7530-01-587-9647L—DAYMAX System, 2015, GLE Planner, 7-hole, Burgundy w/logo.

7530-01-587-9661—DAYMAX System, 2015, GLE Planner, 7-hole, Navy.

7530-01-587-9661L—DAYMAX System, 2015, GLE Planner, 7-hole, Navy w/logo.

7530-01-587-9678—DAYMAX System, 2014, GLE Planner, 7-hole, Black.

7530-01-587-9678L—DAYMAX System, 2014, GLE Planner, 7-hole, Black w/logo.

7530-01-587-9684—DAYMAX System, 2014, JR Deluxe Planner, 6-hole, Black.

7530-01-587-9684L—DAYMAX System, 2014, JR Deluxe Planner, 6-hole, Black w/logo.

7530-01-587-9685—DAYMAX System, 2015, GLE Planner, 7-hole, Black.

7530-01-587-9685L—DAYMAX System, 2015, GLE Planner, 7-hole, Black w/logo.

7530-01-587-9687—DAYMAX System, 2015, JR Deluxe Planner, 6-hole, Black.

7530-01-587-9687L—DAYMAX System, 2015, JR Deluxe Planner, 6-hole, Black w/logo.

7530-01-587-9705—DAYMAX System, 2014, JR Planner, 6-hole, Navy.

7530-01-587-9705L—DAYMAX System, 2014, JR Planner, 6-hole, Navy w/logo.

7530-01-587-9704—DAYMAX System, 2014, JR Planner, 6-hole, Black.

7530-01-587-9704L—DAYMAX System, 2014, JR Planner, 6-hole, Black w/logo.

7530-01-587-9706—DAYMAX System, 2015, JR Planner, 6-hole, Black.

7530-01-587-9706L—DAYMAX System, 2015, JR Planner, 6-hole, Black w/logo.

7530-01-587-9707—DAYMAX System, 2014, LE Planner, 3-hole, Navy.

7530-01-587-9707L—DAYMAX System, 2014, LE Planner, 3-hole, Navy w/logo.

7530-01-587-9709—DAYMAX System, 2015, JR Planner, 6-hole, Navy.

7530-01-587-9709L—DAYMAX System, 2015, JR Planner, 6-hole, Navy w/logo.

7530-01-587-9711—DAYMAX System, 2015, LE Planner, 3-hole, Black.

7530-01-587-9711L—DAYMAX System, 2015, LE Planner, 3-hole, Black w/logo.

7530-01-587-9712—DAYMAX System, 2015, LE Planner, 3-hole, Navy.

7530-01-587-9712L—DAYMAX System, 2015, LE Planner, 3-hole, Navy w/logo.

7530-01-587-9719—DAYMAX System, 2014, GLE Planner, 7-hole, Navy.

7530-01-587-9719L—DAYMAX System, 2014, GLE Planner, 7-hole, Navy w/logo.

7530-01-587-9720—DAYMAX System, 2015, JR Deluxe Planner, 6-hole, Digital Camouflage.

7530-01-587-9720L—DAYMAX System, 2015, JR Deluxe Planner, 6-hole, Digital Camouflage w/logo.

7530-01-587-9722—DAYMAX System, 2015, Planner, 7-hole, Desert Camouflage.

7530-01-587-9722L—DAYMAX System, 2015, Planner, 7-hole, Desert Camouflage w/logo.

7530-01-587-9731—DAYMAX System, 2014, Planner, 7-hole, Desert Camouflage.

7530-01-587-9731L—DAYMAX System, 2014, Planner, 7-hole, Desert Camouflage w/logo.

7530-01-588-0039—DAYMAX System, 2015, DOD Planner, 3-hole, Burgundy.

7530-01-588-0039L—DAYMAX System, 2015, DOD Planner, 3-hole, Burgundy w/logo.

7530-01-588-0108—DAYMAX System, 2014, DOD Planner, 3-hole, Burgundy.

7530-01-588-0108L—DAYMAX System, 2014, DOD Planner, 3-hole, Burgundy w/logo.

7530-01-588-0128—DAYMAX System, 2015, Planner, 7-hole, Woodland Camouflage.

7530-01-588-0128L—DAYMAX System, 2015, Planner, 7-hole, Woodland Camouflage w/logo.

7530-01-588-0122—DAYMAX System, 2014, Planner, 7-hole, Woodland Cam.

7530-01-588-0122L—DAYMAX System, 2014, Planner, 7-hole, Woodland Camouflage w/logo.

7510-01-565-8330—DAYMAX System, Replacement Binder, JR, Velcro Closure, 6-hole, Burgundy.

7510-01-565-8331—DAYMAX System, Replacement Binder, JR Deluxe, Zipper Closure, 6-hole, Digital Camouflage.

7510-01-565-8334—DAYMAX System, Business/Credit Card Holder, 6-hole.

7510-01-566-3925—DAYMAX System, Address Directory Refill, 6-hole.

7530-00-NSH-0099—DAYMAX System, Polyethylene Black Binder, 6 Ring.

7510-01-565-8332—DAYMAX System, Replacement Binder, JR Deluxe, Zipper Closure, 6-hole, Black Denier.

7510-01-565-8333—DAYMAX System, Replacement Binder, Zipper Closure, 7-hole, Desert Camouflage.

7510-01-565-8335—DAYMAX System, Replacement Binder, JR, Velcro Closure, 6-hole, Black.

7510-01-565-8336—DAYMAX System, Replacement Binder, JR, Velcro Closure, 6-hole, Navy.

Mandatory Source(s) of Supply: Easter Seals Western and Central Pennsylvania, Pittsburgh, PA.

Contracting Activity: General Services Administration, New York, NY.

Barry S. Lineback,
Director, Business Operations.

[FR Doc. 2015-28325 Filed 11-5-15; 8:45 am]

BILLING CODE 6353-01-P